NATIONAL FOUNDATION ON THE ARTS AND THE HUMANITIES

National Endowment for the Arts; Arts Advisory Panel

Pursuant to section 10(a)(2) of the Federal Advisory Committee Act (Pub. L. 92-463), as amended, notice is hereby given that two meetings of the Arts Advisory Panel to the National Council on the Arts will be held at the Nancy Hanks Center, 1100 Pennsylvania Avenue, NW., Washington, DC, 20506 as follows (ending times are approximate):

Music (application review): July 11-12, 2006 in Room 714. A portion of this meeting, from 3:30 p.m. to 5 p.m. on July 12th, will be open to the public for a discussion entitled “A 40-Year Partnership—The Arts Endowment & Music Organizations.” The remainder of the meeting, from 9 a.m. to 6 p.m. on July 11th and from 9 a.m. to 3:30 p.m. and from 5 p.m. to 5:30 p.m. on July 28th, will be closed.

Music (application review): July 17-21, 2006 in Room 714. A portion of this meeting, from 12 p.m. to 12:50 p.m. on July 20th, will be open to the public for a presentation by composer William Bolcom (in Room 527). The remainder of the meeting, from 9 a.m. to 6 p.m. on July 17th, from 8:30 a.m. to 5:30 p.m. on July 18th and 19th, from 8:30 a.m. to 12 p.m. and 12:50 p.m. to 5:30 p.m. on July 20th, and from 9 a.m. to 2:30 p.m. on July 21st, will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, on a space available basis, and if time allows, may be permitted to participate in the panel's discussions at the discretion of the panel chairman. Seating is limited. Therefore, for this meeting, individuals wishing to attend are advised to contact Kathy Plowitz-Worden seven (7) days in advance of the meeting at (202) 682-5560. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: June 19, 2006.
Kathy Plowitz-Worden,
Panel Coordinator, Panel Operations, National Endowment for the Arts.

[FR Doc. E6-10199 Filed 6-26-06; 8:45 am]

BILLING CODE 7537-01-P